DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Coral Reef Valuation Study.

OMB Approval Number: None.

Form Number(s): None.

Type of Request: Regular submission.

Burden Hours: 990.

Number of Respondents: 1,980.

Average Hours Per Response: 30 minutes.

Needs and Uses: This is a national survey using two independently recruited Internet panels: the American National Election Study (ANES) Internet Panel and Stanford's Major Research Instrumentation Panel (MRI) Internet Panel. The survey is designed to yield information that can be used to estimate total economic values for protection and restoration of Hawaii's coral reef ecosystems. The survey addresses the public's preferences and economic values for the use of no-take areas as a management tool and the public's preferences and economic values for restoring damaged coral reefs.

NOAA is a member of the U.S. Coral Reef Task Force (CRTF), which was established in June 1998 through Executive Order (EO) 13089. As a member of the CRTF, and in support of the U.S. Coral Reef Initiative, NOAA has significant responsibilities for managing U.S. coral reef habitats and undertaking scientific studies to better manage the nation's coral reef resources. In March 2000, the task force approved the first-ever National Action Plan to Conserve Coral Reefs pursuant to the Coral Reef Conservation Act (16 U.S.C. 6401-6409). The Action Plan identifies 13 major goals, including five that the proposed research addresses: (1) Conduct strategic research, (2) understand the social and economic factors of coral reef ecosystems, (3) improve the use of marine protected areas (MPAs), (4) restore damaged reefs, and (5) improve outreach and education about coral reef ecosystems. In support of NOAA's fulfillment of these goals, this study is designed to develop a survey instrument to elicit economic values for Hawaiian coral reef ecosystems at the national level. The overall objective of this project is to develop economically valid and reliable national estimates of individuals' values for alternative Hawaiian coral reef protection and improvement options.

Affected Public: Individuals or households.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 22, 2008.
Gwellnar Banks,
Management Analyst, Office of the Chief Information Officer.

[FR Doc. E8-11860 Filed 5-27-08; 8:45 am]

BILLING CODE 3510-JE-P